DEPARTMENT OF THE TREASURY

Internal Revenue Service

[Delegation Order No. 262 (Rev. 1)]

Delegation of Authority

AGENCY: Internal Revenue Service (IRS), Treasury.

ACTION: Delegation of Authority.

SUMMARY: Pre-filing Agreements for Large and Mid-Size Business Taxpayers.

EFFECTIVE DATE: March 3, 2001.

FOR FURTHER INFORMATION CONTACT: Gerald W. Reese, Director, Pre-Filing & Technical Guidance, Large and Mid-Size Business, LM:PFT, IRS, New Mint Bldg, M-3-425, 1111 Constitution Ave, NW., Washington DC 20224, (202) 283-8280 (not a toll-free call), Gerald.Reese@irs.gov

Order Number 262 (Rev. 1)

Pre-filing Agreements for Large and Mid-Size Business Taxpayers

Summary: The authority of the Commissioner of Internal Revenue to enter into a written agreement with any person relating to that person's liability for any Internal Revenue tax for any taxable period ending prior to or subsequent to the date of such agreement is delegated as described below.

Authority: To enter into and approve pre-filing agreements, which are described in Rev. Proc. 2001-22 (and any successor Revenue Procedure), and to enter into and approve agreements remaining in process under Notice 2000-12, if any. This does not include the authority to set aside any pre-filing agreement.

Delegated to: Commissioner and Deputy Commissioner, Large and Mid-Size Business (LMSB); LMSB Industry Directors; and LMSB Directors of Field Operations.

Redelegation: This authority shall not be redelegated.

Sources of Authority: 26 CFR 301.7121-1(a).

This order supersedes Delegation Order 262 effective February 10, 2000 (as amended). To the extent that authority previously exercised consistent with this Order may require ratification, it is hereby approved and ratified.

Dated: March 3, 2001.
Robert E. Wenzel,
Deputy Commissioner of Internal Revenue.

[FR Doc. 01-7432 Filed 3-23-01; 8:45 am]

BILLING CODE 4830-01-P